DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements (ICRs) for clearance by the Office of Management and Budget (OMB), FRA is soliciting public comment on specific aspects of the activities identified below.

DATES: Comments must be received no later than April 25, 2005.

ADDRESSES: Submit written comments on any or all of the following proposed activities by mail to either: Mr. Robert Brogan, Office of Safety, Planning and Evaluation Division, RRS-21, Federal Railroad Administration, 1120 Vermont Ave., NW., Mail Stop 17, Washington, DC 20590, or Ms. Debra Steward, Office of Information Technology and Productivity Improvement, RAD-20, Federal Railroad Administration, 1120 Vermont Ave., NW., Mail Stop 35, Washington, DC 20590. Commenters requesting FRA to acknowledge receipt of their respective comments must include a self-addressed stamped postcard stating, “Comments on OMB control number 2130-0533.” Alternatively, comments may be transmitted via facsimile to (202) 493-6230 or (202) 493-6170, or e-mail to Mr. Brogan at robert.brogan@fra.dot.gov, or to Ms. Steward at debra.steward@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 17, Washington, DC 20590 (telephone: (202) 493-6292) or Debra Steward, Office of Information Technology and Productivity Improvement, RAD-20, Federal Railroad Administration, 1120 Vermont Ave., NW., Mail Stop 35, Washington, DC 20590 (telephone: (202) 493-6139). (These telephone numbers are not toll-free.)

SUPPLEMENTARY INFORMATION: The Paperwork Reduction Act of 1995 (PRA), Public Law 104-13, section 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: Qualifications For Locomotive Engineers.

OMB Control Number: 2130-0533.

Abstract: Section 4 of the Rail Safety Improvement Act of 1988 (RSIA), Public Law 100-342, 102 Stat. 624 (June 22, 1988), later amended and re-codified by Public Law 103-272, 108 Stat. 874 (July 5, 1994), required that FRA issue regulations to establish any necessary program for certifying or licensing locomotive engineers. The collection of information is used by FRA to ensure that railroads employ and properly train qualified individuals as locomotive engineers and designated supervisors of locomotive engineers. The collection of information is also used by FRA to verify that railroads have established required certification programs for locomotive engineers and that these programs fully conform to the standards specified in the regulation.

Affected Public: Businesses.

Respondent Universe: 685 railroads.

Frequency of Submission: On occasion; annually; tri-annually.

Reporting Burden:

CFR section | Respondent universe | Total annual responses | Average time per response | Total annual burden hours | Total annual burden cost
240.9—Waivers | 685 railroads | 5 waivers | 1 hour | 5 | $170
240.101/103—Cert. Prog.—Amendmnts | 675 railroads | 675 amendments | 15 minutes | 169 | 5,746
—Cert. Prog.—New | 10 railroads | 10 programs | 200 hours/40 hours | 1,840 | 62,560
—Final Review | 10 railroads | 10 reviews | 1 hour | 10 | 340
—Nonconforming Program—Amend | 685 railroads | 1 amended program | 15 minutes | .25 | 9
—Material Modific | 685 railroads | 6 modified program | 45 minutes | 5 | 170
240.105(a)—Selection Criteria for DSLE's—Rpts | 10 railroads | 10 reports | 1 hour | 10 | 490
(b) Approval Plan—Amendments | 685 railroads | 75 amendments | 1 hour | 75 | 2,550
240.109—Candidate's written comments on prior safety data | 13,333 | 133 responses | 30 minutes | 67 | 3,149
240.111/App C—Driver's License Data | 13,333 candidates | 13,333 requests | 15 minutes | 3,333 | 156,651
—NDR Match—notifications and requests for data | 685 railroads | 267 response + 267 requests | 30 minutes | 134 | 5,427
—Written response from candidate on driver's lic. data | 685 railroads | 40 cases/comments | 15 minutes | 10 | 470
240.111(g)—Notice to RR of Absence of License | 40,000 candidates | 4 letters | 15 minutes | 1 | 47
240.111(h)—Duty to furnish data on prior safety conduct as motor vehicle op. | 685 railroads | 400 phone calls | 10 minutes | 67 | 3,149
240.113—Notice to RR Furnishing Data on Prior Safety Conduct—Diff. RR | 13,333 candidates | 267 requests + 267 responses | 15 min./30 min. | 200 | 7,671
240.119—Self-referral to EAP re: active substance abuse disorder | 40,000 locomotive engineers | 100 self-referrals | 5 minutes | 22 | 376
240.121—Criteria—Vision/Hearing Acuity Data—New Railroads | 10 railroads | 10 copies | 15 minutes | 3 | 102
240.121—Criteria—Vision/Hearing Acuity Data—Cond. Certification | 685 railroads | 17 reports | 1 hour | 17 | 578
240.121—Criteria—Vision/Hearing Acuity Data—Not Meeting Standards | 685 railroads | 10 notifications | 15 minutes | 3 | 141
240.201/221—List of Certified Loco. Engineers | 685 railroads | 685 updates | 15 minutes | 171 | 5,814
240.201/221—List of Qualified DSLEs | 685 railroads | 685 updated lists | 15 minutes | 171 | 5,814
240.201/223/301—Loco. Engineers Certificate | 40,000 candidates | 13,333 certificates | 5 minutes | 1,111 | 37,774
—False entry on certificates | 685 railroad; 40,000 engineers | 2 falsifications | 5 minutes | 17 | 8
240.201/223—List of Des. Persons Authorized to Sign DSLE Certificate | 685 railroads | 20 lists | 15 minutes | 5 | 170
240,205—Data to EAP Counselor | 685 railroads | 267 records | 5 minutes | 22 | 1,034
240.207—Medical Certificate | 40,000 candidates | 13,333 certificates | 70 minutes | 15,555 | 1,555,500
—Written determinations waiving use of corrective device | 685 railroads | 10 determinations | 2 hours | 20 | 2,000
240.219—Denial of Certification | 13,333 candidates | 75 letters + 75 responses | 1 hour | 150 | 6,075
—Notification | 685 railroads | 75 notifications | 1 hour | 75 | 2,550
240.227—Canadian Certification Data | Canadian railroads | 200 certifications | 15 minutes | 50 | 1,700
240.229—Requirements For Joint Operations | 321 railroads | 184 calls | 5 minutes | 15 | 705
240.309—RR Oversight Resp.: Poor Safety Conduct—Noted | 15 railroads | 10 annotations | 15 minutes | 3 | 147
Testing Rqmnts.
240.209/213—Written Tests | 40,000 candidates | 13,333 tests | 2 hours | 26,666 | 906,644
240.211/213—Perf. Test | 40,000 candidates | 13,333 | 2 hours | 26,666 | 906,644
240.303—Annual operational monitor observation | 40,000 candidates | 40,000 tests/docs | 2 hours | 80,000 | 3,920,000
240.303—Annual operating rules compliance test | 40,000 candidates | 40,000 tests | 1 hour | 40,000 | 1,960,000
Recordkeeping
240.215—Retaining Info. Supporting Determination | 685 railroads | 13,333 records | 10 minutes | 2,222 | 75,548
240.305—Engineer's Notice of Non-Qualific | 40,000 engineers candidates | 10 notifications | 5 minutes | 1 | 47
—Relaying Non-qual. Status to other certifying railroad | 800 engineers | 2 letters | 30 minutes | 1 | 47
240.307—Notice to Engineer of Disqualification | 685 railroads | 500 letters | 1 hour | 500 | 17,000
240.309—Railroad Annual Review | 42 railroads | 42 reviews | 80 hours | 3,360 | 188,160
—Report of findings | 42 railroads | 6 reports | 1 hour | 6 | 336

Total Responses: 165,420.

Estimated Total Annual Burden: 202,741 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on February 15, 2005.
Kathy A. Weiner,
Director, Office of Information Technology and Support Systems, Federal Railroad Administration.

[FR Doc. 05-3375 Filed 2-18-05; 8:45 am]

BILLING CODE 4910-06-P